DEPARTMENT OF STATE

[Public Notice 3955]

Office of the Coordinator for Counterterrorism; Designation Under Executive Orders

AGENCY: Department of State.

ACTION: Designation under Executive Orders 13224 and 12947.

Pursuant under the authority of section 1(b) of Executive Order 13224 of September 23, 2001, the Deputy Secretary of State, acting under the authority delegated to him by the Secretary of State, in consultation with the Secretary of the Treasury and the Attorney General, has determined, that the Al-Aqsa Martyrs Brigade (also known as the Al-Aqsa Martyrs Battalion) has committed, or poses a serious risk of committing, acts of terrorism that threaten the security of U.S. nationals or the national security, foreign policy, or economy of the United States.

Pursuant to section 1(a)(ii)(A) of the Executive Order 12947 of January 23, 1995, the Deputy Secretary of State, acting under the authority delegated to him by the Secretary of State, in consultation with the Secretary of the Treasury and the Attorney General, has determined, that the Al-Aqsa Martyrs Brigade (also known as the Al-Aqsa Martyrs Battalion) has committed, or poses a serious risk of committing, acts of violence that have the purpose or effect of disrupting the Middle East Peace Process.

Dated: March 25, 2002.
Mark Wong,
Acting Coordinator for Counterterrorism, Department of State.

[FR Doc. 02-7492 Filed 3-26-02; 5:00 pm]

BILLING CODE 4710-10-P